DEPARTMENT OF LABOR

Employment and Training Administration

[TA-W-61,773]

Gilmour Manufacturing Company, A Subsidiary of Robert Bosch Tool Company, Somerset, PA; Notice of Negative Determination Regarding Application for Reconsideration

By application of August 29, 2007, a company official requested administrative reconsideration of the Department's negative determination regarding eligibility for workers and former workers of the subject firm to apply for Trade Adjustment Assistance (TAA). The denial notice was signed on July 31, 2007 and published in the Federal Register on August 14, 2007 (72 FR 45451).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, which was filed on behalf of workers at Gilmour Manufacturing Company, a subsidiary of Robert Bosch Tool Corporation, Somerset, Pennsylvania engaged in the production of lawn and garden products, was denied based on the findings that during the relevant time period, the subject company did not separate or threaten to separate a significant number or proportion of workers, as required by Section 222 of the Trade Act of 1974.

In the request for reconsideration, the petitioner states that “even though there are no layoffs planned, there is a strong possibility” that the employment at the subject firm will decrease in the future.

The workers of the subject firm were previously certified eligible for TAA (TA-W-57,492). This certification expired on July 18, 2007.

When assessing eligibility for TAA, the Department exclusively considers the relevant employment data (for one year prior to the date of the petition and any imminent layoffs) for the facility where the petitioning worker group was employed. In this case, the employment since the expiration of the previous certification was considered. As employment levels at the subject facility increased during the relevant time period and there was no threat of separations during the relevant period, criterion (1) Has not been met. Significant number or proportion of the workers in a firm or appropriate subdivision means at least three workers in a workforce of fewer than 50 workers, five percent of the workers in a workforce of over 50 workers, or at least 50 workers.

Although further layoffs are anticipated in the future, those layoffs are beyond the relevant period of this investigation. As employment levels at the subject facility did not decline in the relevant period, and the subject firm did not shift production to a foreign country, criteria (a)(2)(A)(I.A), (a)(2)(B)(II.A), (a)(2)(A)(I.B), and (a)(2)(B)(II.B) have not been met.

Should conditions change in the future, the company is encouraged to file a new petition on behalf of the worker group which will encompass an investigative period that will include these changing conditions.

Conclusion

After review of the application and investigative findings, I conclude that there has been no error or misinterpretation of the law or of the facts which would justify reconsideration of the Department of Labor's prior decision. Accordingly, the application is denied.

Signed at Washington, DC, this 12th day of September, 2007.
Elliott S. Kushner,
Certifying Officer, Division of Trade Adjustment Assistance.

[FR Doc. E7-19028 Filed 9-26-07; 8:45 am]

BILLING CODE 4510-FN-P